DEPARTMENT OF DEFENSE

Department of the Navy

Notice of Intent To Prepare an Environmental Impact Statement (EIS) for the Shock Test of a VIRGINIA (SSN 774) Class Submarine

AGENCY: Department of the Navy, DOD.

ACTION: Notice.

SUMMARY: Pursuant to Section 102(2)(c) of the National Environmental Policy Act (NEPA) of 1969, as implemented by the Council on Environmental Quality regulations (40 CFR parts 1500-1508), the Department of the Navy (Navy) announces its intent to prepare an Environmental Impact Statement/Overseas Environmental Impact Statement (EIS/OEIS) to evaluate the potential environmental impacts associated with conducting a shock test on a VIRGINIA (SSN 774) Class submarine, at a site located off the East Coast of the United States. Pursuant to 40 CFR 1501.6, the Navy has requested that the National Marine Fisheries Service (NMFS) act as a Cooperating Agency.

A “shock test” is necessary to evaluate the effect of shock waves, resulting from a series of underwater explosions simulating conditions encountered in combat. The congressionally mandated (10 U.S.C. 2366) Live Fire Test and Evaluation (LFT&E) Program requires realistic survivability testing on each new Class of Navy submarines. A “shock test” is a component of the Navy's LFT&E program to ensure survivability. The test results provide important information that is applied to follow-on submarines, and is used to validate/improve the initial submarine design and enhance the effectiveness and overall survivability of the submarine and crew.

DATES: Public scoping meetings will be held in Norfolk, VA and Jacksonville/Atlantic Beach, FL, to receive oral and/or written comments on environmental concerns that should be addressed in the EIS/OEIS. The public meeting dates are:

1. Tuesday, April 20, 2004, from 6 p.m. to 8 p.m., in Norfolk, VA.

2. Wednesday, April 21, 2004, from 6 p.m. to 8 p.m., in Jacksonville/Atlantic Beach, FL.

ADDRESSES: The public meeting locations are:

1. Norfolk, VA: Lafayette Branch Public Library, 1610 Cromwell Drive, Norfolk, VA 23509.

2. Jacksonville/Atlantic Beach, FL: Mayport Elementary School Media Center, 2753 Shangri-La Drive, Atlantic Beach, FL 32233-2999.

FOR FURTHER INFORMATION CONTACT: Naval Sea Systems Command, Attn: 09A12 (Mr. David Cartwright, SEA07TE), 614 Sicard Street SE., Washington Navy Yard, DC 20376-7031; telephone (703) 412-7521.

SUPPLEMENTARY INFORMATION: The proposed action (shock test) would subject a VIRGINIA (SSN 774) Class submarine to no more than five explosive charges, approximately 10,000 pounds each, while monitoring the effects on the submarine. The EIS/OEIS will thoroughly address reasonable alternatives to the proposed action, the existing environments of the proposed test areas, and the impact to the environment at those areas. An initial evaluation identified areas at the 400-foot depth curve and within 100 nm of Kings Bay, GA/Mayport, FL; and Norfolk, VA, as potential shock test locations, because they effectively meet the operational criteria necessary to conduct a shock test on a submarine. The proposed shock test is scheduled to occur between May 1, 2006, and September 30, 2006, with a maximum of one test event per week.

The EIS/OEIS will evaluate the potential environmental impacts associated with the test locations. Issues to be addressed will include, but are not limited to, the following resource areas: wildlife, including threatened and endangered species and marine mammals, fisheries, including an analysis of water quality, air quality, commercial fishing, commercial shipping, recreation, and socioeconomics. The EIS/OEIS will include an evaluation of the direct, indirect, short-term, and cumulative impacts. No decision will be made to conduct a shock test until the NEPA process is completed.

The Navy is initiating the scoping process to identify community concerns and local issues that should be addressed in the EIS/OEIS. Federal, State, local agencies, and interested persons are encouraged to provide oral and/or written comments to the Navy to identify specific issues or topics of environmental concern for consideration in the EIS/OEIS. The Navy will consider these comments in determining the scope of the EIS/OEIS.

Written comments on the scope of the EIS/OEIS should be submitted by May 21, 2004, and should be mailed to: VIRGINIA (SSN 774) Class Program, C/O Booz Allen Hamilton, 1725 Jefferson Davis HWY, Suite 1100, Arlington, VA 22202, Attn: VIRGINIA (SSN 774) Class EIS.

Dated: March 8, 2004.
S.A. Hughes,
Lieutenant Commander, Judge Advocate General's Corps, U.S. Navy, Federal Register Liaison Officer.

[FR Doc. 04-5632 Filed 3-11-04; 8:45 am]

BILLING CODE 3810-FF-P